DEPARTMENT OF COMMERCE

Foreign-Trade Zones Board

[B-16-2020]

Foreign-Trade Zone (FTZ) 43—Battle Creek, Michigan; Notification of Proposed Production Activity; Zoetis, LLC (Pharmaceutical Products), Kalamazoo, Michigan

Zoetis, LLC (Zoetis) submitted a notification of proposed production activity to the FTZ Board for its facility in Kalamazoo, Michigan. The notification conforming to the requirements of the regulations of the FTZ Board (15 CFR 400.22) was received on March 9, 2020.

Zoetis' facility is located within FTZ 43. The facility is used for the production of pharmaceuticals for the animal pharmaceutical industry. Pursuant to 15 CFR 400.14(b), FTZ activity would be limited to the specific foreign-status materials and components and specific finished products described in the submitted notification (as described below) and subsequently authorized by the FTZ Board.

Production under FTZ procedures could exempt Zoetis from customs duty payments on the foreign-status components used in export production. On its domestic sales, for the foreign-status materials/components noted below, Zoetis would be able to choose the duty rates during customs entry procedures that apply to: Apoquel® (atopic dermatitis); Stronghold® Plus (antiparasitic); Revolution Plus ® (antiparasitic); Versatrine® Pron (ectoparasiticide); Spot on Pron (ectoparasiticide); Coopers Spot on Pron (ectoparasiticide); Alphamax Conc Sol (parasiticide) and, Simparica Trio™ (antiparasitic) (duty rate ranges from duty-free to 6.5%). Zoetis would be able to avoid duty on foreign-status components which become scrap/waste. Customs duties also could possibly be deferred or reduced on foreign-status production equipment.

The components and materials sourced from abroad include: Oclacitinib maleate; saroloner; deltamethrin 1% solution; and, deltamethrin concentrate 10MG/ML (duty rate 6.5%). The request indicates that certain materials/components are subject to special duties Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is April 27, 2020.

A copy of the notification will be available for public inspection in the “Reading Room” section of the Board's website, which is accessible via www.trade.gov/ftz.

For further information, contact Christopher Wedderburn at Chris.Wedderburn@trade.gov or (202) 482-1963.

Dated: March 10, 2020.
Andrew McGilvray,
Executive Secretary.

[FR Doc. 2020-05315 Filed 3-13-20; 8:45 am]

BILLING CODE 3510-DS-P